STATE DEPARTMENT

[Public Notice: 7550]

International Security Advisory Board (ISAB) Meeting Notice; Closed Meeting

In accordance with section 10(a)(2) of the Federal Advisory Committee Act, 5 U.S.C. App. 10(a)(2), the Department of State announces a meeting of the International Security Advisory Board (ISAB) to take place on October 6, 2011, at the Department of State, Washington, DC.

Pursuant to section 10(d) of the Federal Advisory Committee Act, 5 U.S.C. App. 10(d), and 5 U.S.C. 552b(c)(1), it has been determined that this Board meeting will be closed to the public in the interest of national defense and foreign policy because the Board will be reviewing and discussing matters properly classified in accordance with Executive Order 13526. The purpose of the ISAB is to provide the Department with a continuing source of independent advice on all aspects of arms control, disarmament, political-military affairs, and international security and related aspects of public diplomacy. The agenda for this meeting will include classified discussions related to the Board's ongoing studies on current U.S. policy and issues regarding arms control, international security, nuclear proliferation, and diplomacy.

For more information, contact Richard W. Hartman II, Executive Director of the International Security Advisory Board, Department of State, Washington, DC 20520, telephone: (202) 736-4290.

Dated: August 26, 2011.
Richard W. Hartman II,
Executive Director, International Security Advisory Board, U.S. Department of State.

[FR Doc. 2011-24036 Filed 9-16-11; 8:45 am]

BILLING CODE 4710-24-P